DEPARTMENT OF COMMERCE

Foreign-Trade Zones Board

[B-26-2021]

Foreign-Trade Zone (FTZ) 38—Spartanburg County, South Carolina; Notification of Proposed Production Activity; Black & Decker (U.S.), Inc. (Production and Kitting of Power Tools and Injection Molded Parts); Fort Mill, South Carolina

Black & Decker (U.S.), Inc. (Black & Decker) submitted a notification of proposed production activity to the FTZ Board for its facility in Fort Mill, South Carolina. The notification conforming to the requirements of the regulations of the FTZ Board (15 CFR 400.22) was received on March 30, 2021.

Black & Decker already has authority for the production and kitting of certain power tools and related components within Subzone 38M. The current request would add finished products and foreign-status materials/components to the scope of authority. Pursuant to 15 CFR 400.14(b), additional FTZ authority would be limited to the specific foreign-status materials/components and specific finished products described in the submitted notification (as described below) and subsequently authorized by the FTZ Board.

Production under FTZ procedures could exempt Black & Decker from customs duty payments on the foreign-status materials/components used in export production. On its domestic sales, for the foreign-status materials/components noted below and in the existing scope of authority, Black & Decker would be able to choose the duty rates during customs entry procedures that apply to cable tray cutters, pipe expanders (PEX), cordless staplers, and plastic molded parts (compressor shrouds, mower shrouds and mower decks) (duty-free). Black & Decker would be able to avoid duty on foreign-status components which become scrap/waste. Customs duties also could possibly be deferred or reduced on foreign-status production equipment.

The materials/components that may be sourced from abroad include: Belt hooks (metal); hex wrenches (metal); tubular rivets (metal); wire channels (plastic channel to hold wires); cable cutter parts (metal): Moving blocks, cutter heads, cutting blocks; cable cutter parts (plastic): Linkage triggers, housing pocket covers; cable cutter transmission parts (metal): Cutter holders, head flanges, shear block supports; stapler magazine parts (metal): Machined magazines, cores, staple pushers, frames, noses, nose covers; stapler magazine hub and cylinder assemblies (metal and plastic); stapler parts (metal): Drive bolts, boot straps, carriages, drivers, lower spring seats, guide rails, U channel lug rails, backdrive pawls, contact trips; stapler parts (plastic): Inner rings, cable guides, wire magazine covers; stapler transmission assembly parts (metal): Lift wheels, drive shaft bushings, front wear plates; PEX expander parts: Expander heads (metal), linkages (metal and plastic); PEX transmission parts (metal): Support plates, spindle cones, collars; transmission parts (metal): Spindle cams, cam and index, piston sleeves; lenses for LED lights; LED light assemblies; and, wire harness assemblies (duty rate ranges from duty-free to 9%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is May 17, 2021.

A copy of the notification will be available for public inspection in the “Reading Room” section of the Board's website, which is accessible via www.trade.gov/ftz.

For further information, contact Diane Finver at Diane.Finver@trade.gov.

Dated: March 31, 2021.
Andrew McGilvray,
Executive Secretary.

[FR Doc. 2021-07018 Filed 4-5-21; 8:45 am]

BILLING CODE 3510-DS-P